DEPARTMENT OF ENERGY

Western Area Power Administration

Pick-Sloan Missouri Basin Program—Eastern Division

AGENCY: Western Area Power Administration, DOE.

ACTION: Notice of transfer of functional control of eligible Western-Upper Great Plains Region transmission facilities to Southwest Power Pool, Inc. on October 1, 2015, and Rate Schedules WAUGP-ATRR, WAUGP-AS1, WAUW-AS3, WAUW-AS4, WAUW-AS5, WAUW-AS6 and WAUW-AS7 made effective on that date.

SUMMARY: Western Area Power Administration (Western) transferred functional control of eligible Western-Upper Great Plains Region (Western-UGP) transmission facilities to Southwest Power Pool, Inc. (SPP) on October 1, 2015. Transmission service is being provided over Western-UGP's eligible facilities under SPP's Open Access Transmission Tariff. Western-UGP costs are included in Western-UGP Formula rates for Transmission and Ancillary Services under Rate Schedules WAUGP-ATRR, WAUGP-AS1, WAUW-AS3, WAUW-AS4, WAUW-AS5, WAUW-AS6 and WAUW-AS7, which became effective on October 1, 2015.

FOR FURTHER INFORMATION CONTACT: Mr. Lloyd Linke, Vice President of Operations for Upper Great Plains Region, Upper Great Plains Region, Western Area Power Administration, 1330 41st Street, Watertown, SD, 57201; telephone: (605) 882-7500; email: Lloyd@wapa.gov; or Ms. Linda Cady-Hoffman, Rates Manager, Upper Great Plains Region, Western Area Power Administration, 2900 4th Avenue North, Billings, MT 59101-1266; telephone: (406) 255-2920; email: cady@wapa.gov.

SUPPLEMENTARY INFORMATION: On July 27, 2015, Western published a Federal Register Notice (80 FR 44339) providing a Notice of Final Transmission and Ancillary Services Formula Rates for Western's Pick-Sloan Missouri Basin Program-Eastern Division (P-SMBP—ED). Western explained that Western-UGP intended to transfer functional control of Western-UGP's P-SMBP—ED eligible transmission facilities located in the Upper Missouri Zone (UMZ or Zone 19) to SPP on October 1, 2015. Western announced the final transmission and ancillary services formula rates and the P-SMBP—ED transmission and ancillary services formula rates would go into effect when functional control was transferred to SPP.

The purpose of this notice is to announce that Western-UGP successfully transferred functional control of eligible transmission facilities on October 1, 2015, and Rate Schedules WAUGP-ATRR, WAUGP-AS1, WAUW-AS3, WAUW-AS4, WAUW-AS5, WAUW-AS6 and WAUW-AS7 were made effective on that date.

Availability of Information

Information regarding the public process for Western-UGP's formula rate adjustment process and annual recalculation is available on Western's Web site and Western-UGP's Open Access Same-Time Information System (OASIS) home page, which are located respectively at the following locations:

https://www.wapa.gov/regions/UGP/rates/Pages/rates.aspx

http://www.oatioasis.com/wapa/index.html

Dated: February 8, 2016.
Mark A. Gabriel,
Administrator.

[FR Doc. 2016-03362 Filed 2-17-16; 8:45 am]

BILLING CODE 6450-01-P